DEPARTMENT OF TRANSPORTATION

Federal Aviation Administration

RTCA Future Flight Data; Collection Committee

Pursuant to section 10(a)(2) of the Federal Advisory Committee Act (Pub. L. 92-463, 5 U.S.C., Appendix 2), notice is hereby given for the Future Flight Data Collection Committee meeting to be held March 29, 2001, starting at 9:00 a.m. This meeting will be held at RTCA, 1140 Connecticut Avenue, NW., Suite 1020, Washington, DC 20036.

The agenda will include: (1) Welcome and Introductory Remarks; (2) Review Meeting Agenda; (3) Review Previous Meeting Minutes; (4) Receive report on the deliberations of Working Group 1 (Data Needs); (5) Receive report on the deliberations of Working Group 2 (Technology); (6) Receive report on the deliberations of Working Group 3 (Data Use and Protection); (7) Discuss timeline for deliverables from the Working Groups; (8) Review progress on the Final Report; (9) Receive Presentations; (10) Other Business; (11) Establish Agenda for Next Meeting; (12) Date and Location of Next Meeting; (13) Closing.

Attendance is open to the interested public but limited to space availability. With the approval of the chairman, members of the public may present oral statements at the meeting. Persons wishing to present statements, obtain information or pre-register for the committee should contact the RTCA Secretariat, 1140 Connecticut Avenue, NW., Suite 1020, Washington, DC 20036; (202) 833-9339 (phone); (202) 833-9434 (fax). Members of the public may present a written statement to the committee at any time.

Issued in Washington, DC, on February 23, 2001.
Janice L. Peters,
Designated Official.

[FR Doc. 01-5137 Filed 3-1-01; 8:45 am]

BILLING CODE 4910-13-M